EQUAL EMPLOYMENT OPPORTUNITY COMMISSION

Sunshine Act Meeting

AGENCY HOLDING THE MEETING: Equal Employment Opportunity Commission.

DATE AND TIME: Tuesday, February 29, 2000 at 2:00 P.M. (Eastern Time). (This Meeting was rescheduled from Tuesday, January 25, 2000)

PLACE: Conference Room on the Ninth Floor of the EEOC Office Building, 1801 “L” Street, NW, Washington, DC 20507.

STATUS: The meeting will be closed to the public.

MATTERS TO BE CONSIDERED:

Closed Session

Review of Pending Litigation.

Note: Any matter not discussed or concluded may be carried over to a later meeting. (In addition to publishing notices on EEOC Commission meetings in the Federal Register, the Commission also provides a recorded announcement a full week in advance on future Commission sessions). Please telephone (202) 663-7100 (voice) and (202) 663-4074 (TTD) at any time for information on these meetings.

CONTACT PERSON FOR FURTHER INFORMATION: Frances M. Hart, Executive Officer on (202) 663-4070.

Dated: February 2, 2000.
Frances M. Hart,
Executive Officer, Executive Secretariat.

[FR Doc. 00-2682 Filed 2-2-00; 1:39 pm]

BILLING CODE 6750-06-M